DEPARTMENT OF DEFENSE

Department of the Army; Corps of Engineers

Availability of Final Bi-National Report for the Great Lakes—St. Lawrence Seaway Study

AGENCY: Department of the Army, U.S. Army Corps of Engineers, DoD.

ACTION: Notice of availability.

SUMMARY: The U.S. Army Corps of Engineers (USACE), Detroit District, is issuing this notice to announce the availability for public review and feedback of the final bi-national report for the Great Lakes—St. Lawrence Seaway (GLSLS) Study. This study was conducted jointly with Canada and was overseen by a steering committee that included representatives from the United States Department of Transportation, Transport Canada, United States Fish and Wildlife Service, Environment Canada, the St. Lawrence Seaway Development Corporation, the United States Army Corps of Engineers, and the St. Lawrence Seaway Management Corporation. The study evaluated the commercial navigation infrastructure needs of the GLSLS as it is currently configured, and does not make any recommendations related to the implementation of any physical project modifications. The study assessed ongoing maintenance and long-term capital requirements to ensure the continuing viability of the system, targeting the engineering, economic and environmental implications of those needs as they pertain to the marine transportation infrastructure upon which commercial navigation depends. The public is invited to provide feedback which will be provided to the above noted partner agencies for their consideration as each assess the study findings related to future system's operation and maintenance.

DATES: The Final Report will be available for public review starting November 26, 2007, and any written feedback received by January 18, 2008 will be posted to the study Web site identified below.

FOR FURTHER INFORMATION CONTACT: Mr. David Wright, Project Manager, U.S. Army Corps of Engineers, Detroit District, 477 Michigan Avenue, P.O. Box 1027, Detroit, Michigan 48231-1027, at (313) 226-3573 or at david.l.wright@usace.army.mil. Written comments are to be provided to Mr. Wright.

SUPPLEMENTARY INFORMATION: The report and background information on the study may be viewed on the study Web site: http://www.glsls-study.com.

David L. Wright,
Senior Project Manager, GLSLS Study U.S. Co-Manager, USACE-Detroit.

[FR Doc. E7-22967 Filed 11-23-07; 8:45 am]

BILLING CODE 3710-GA-P